DEPARTMENT OF TRANSPORTATION

Federal Highway Administration

Notice of Final Federal Agency Actions on Proposed Highway in Kentucky and Tennessee

AGENCY: Federal Highway Administration (FHWA), DOT.

ACTION: Notice of Limitation on Claims for Judicial Review of Actions by FHWA and Other Federal Agencies.

SUMMARY: This notice announces actions taken by FHWA and other Federal agencies that are final. The actions relate to a proposed highway project for the construction of US-641/State Route (SR) 54 from just north of Puryear in Henry County, Tennessee to just south of Murray in Calloway County, Kentucky. Those actions grant licenses, permits, and approvals for the project. The FHWA's Finding of No Significant Impact (FONSI) provides details on the Selected Alternative for the proposed improvements.

DATES: By this notice, FHWA is advising the public of final agency actions subject to 23 U.S.C. 139(l)(1). A claim seeking judicial review of the Federal agency actions on the highway project will be barred unless the claim is filed on or before May 21, 2020. If the Federal law that authorizes judicial review of a claim provides a time period of less than 150 days for filing such claim, then that shorter time period still applies.

FOR FURTHER INFORMATION CONTACT: For FHWA in Kentucky: Mr. Todd Jeter; Division Administrator; Federal Highway Administration; Kentucky Division Office; 330 West Broadway, Frankfort, Kentucky 40601; Telephone (502) 223-6720; email: Todd.Jeter@dot.gov. The FHWA Kentucky Division Office's normal business hours are 8:00 a.m. to 5:00 p.m. (Eastern Time). For FHWA in Tennessee: Ms. Theresa Claxton; Program Development Team Leader; Federal Highway Administration; Tennessee Division Office; 404 BNA Drive, Building 200, Suite 508; Nashville, Tennessee 37217; Telephone (615) 781-5770; email: Theresa.Claxton@dot.gov. FHWA Tennessee Division Office's normal business hours are 7:30 a.m. to 4 p.m. (Central Time). You may also contact Mr. Daniel Peake, Director of the Division of Environmental Analysis, Kentucky Transportation Cabinet, 200 Mero Street, Frankfort, Kentucky 40622; Telephone (502) 564-7250, Danny.Peake@ky.gov. The Kentucky Transportation Cabinet (KYTC) Division of Environmental Analysis's normal business hours are 8 a.m. to 4:30 p.m. (Eastern Time). The contact at the Tennessee Department of Transportation (TDOT) is Ms. Susannah Kniazewycz, Environmental Division Director, James K. Polk Building, Suite 900, 505 Deaderick Street, Nashville, Tennessee 37243-0334; Telephone (615) 741-3655, Susannah.Kniazewycz@tn.gov. The TDOT Environmental Division's normal business hours are 8 a.m. to 5 p.m. (Central Time).

SUPPLEMENTARY INFORMATION: Notice is hereby given that FHWA and other Federal agencies have taken final agency actions subject to 23 U.S.C. 139(l)(1) by issuing licenses, permits, and approvals for the following highway project located in northwestern Tennessee and southwestern Kentucky, more specifically described as: Construction of US 641/SR-54, KYTC Item Number 1-314.20 and TDOT Project Number 101886.05, Calloway County, Kentucky and Henry County, Tennessee. The proposed action will provide a facility for safe and efficient movement of traffic and freight in the region, particularly between I-24, I-40, and I-69. The Selected Alternative proposes the construction of two roadway sections within the project. The southern portion constructs US-641/SR-54 from north of Howard Road to the Tennessee-Kentucky State Line and consists of two 12-foot travel lanes in each direction, a 14-foot turning lane, and 8-foot outside shoulders, within an approximate 300-foot right-of-way (ROW). Construction will be phased to initially build a three-lane section with intent for future widening to the ultimate five-lane configuration. The northern portion of the project constructs US-641 from the Tennessee-Kentucky State Line to just south of the bridge over the Middle Fork of the Clarks River and consists of two 12-foot travel lanes in each direction, 4-foot inside shoulders, 10-foot outside shoulders, and a 48-foot depressed median, within an approximate 330-foot ROW.

The actions by the Federal agencies, and the laws under which such actions were taken, are described in the Environmental Assessment (EA) for the project, approved on July 17, 2019, and in the FHWA FONSI issued on November 15, 2019, and in other documents in the FHWA project records. The EA, FONSI, and other project records are available by contacting FHWA, TDOT, or KYTC at the addresses provided above. The FHWA EA and FONSI can be viewed and downloaded from the project website at https://transportation.ky.gov/DistrictOne/Pages/US-641-Calloway-.aspx or viewed at the TDOT Central Office; James K. Polk Building, Suite 700, 505 Deaderick Street, Nashville, Tennessee 37243; the TDOT Region 4, Administrative Building, 300 Benchmark Place, Jackson, Tennessee 38301; the KYTC Central Office, 200 Mero Street, Frankfort, Kentucky 40622; or the KYTC District 1 Office, 5501 Kentucky Dam Road, Paducah, Kentucky 42003.

This notice applies to all Federal agency decisions that are final as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [54 U.S.C. 300101 et seq.].

6. Social and Economic: Civil Rights Act of 1964 [42 U.S.C. 2000(d)-2000(d)(1)]; Farmland Protection Policy Act (FPPA) [7 U.S.C. 4201-4209].

7. Wetlands and Water Resources: Clean Water Act (Section 404, Section 401, and Section 319) [33 U.S.C. 1251-1377].

8. Hazardous Materials: Comprehensive Environmental Response, Compensation, and Liability Act (CERCLA) [42 U.S.C. 9601-9675].

9. Executive Orders: E.O. 11990 Protection of Wetlands; E.O. 11988 Floodplain Management; E.O. 13112 Invasive Species; E.O. 12898 Federal Actions to Address Environmental Justice in Minority Populations and Low Income Populations; E.O. 13175 Consultation and Coordination with Indian Tribal Governments; E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1).

Issued on: December 5, 2019.
Todd Jeter,
Division Administrator, Frankfort, Kentucky.

[FR Doc. 2019-27021 Filed 12-20-19; 8:45 am]

BILLING CODE 4910-RY-P